DEPARTMENT OF HOMELAND SECURITY

Coast Guard

33 CFR Part 117

[Docket No. USCG-2014-0807]

RIN 1625-AA09

Drawbridge Operation Regulation; Mantua Creek, Paulsboro, NJ

AGENCY: Coast Guard, DHS.

ACTION: Final rule.

SUMMARY: The Coast Guard is changing the operating regulation that governs the Conrail Railroad Bridge over Mantua Creek at mile marker 1.4 in Paulsboro, NJ. The bridge owner, Conrail, is modifying the operating system which controls the bridge operations. Cameras will be installed and the bridge will be remotely operated from Mt. Laurel, NJ. The train crew will no longer be required to stop and check the waterway for approaching vessel traffic prior to initiating a bridge closure or be responsible to operate the bridge closure equipment located at the bridge site.

DATES: This rule is effective May 21, 2015.

ADDRESSES: Documents mentioned in this preamble are part of docket USCG-2014-0807. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mrs. Kashanda Booker, Fifth Coast Guard District Bridge Administration Division, Coast Guard; telephone 757-398-6227, email kashanda.l.booker@uscg.mil. If you have questions on viewing the docket, call Cheryl Collins, Program Manager, Docket Operations, telephone 202-366-9826.

SUPPLEMENTARY INFORMATION:

Table of Acronyms

CFR—Code of Federal Regulations

Conrail—Consolidated Rail Corporation

DHS—Department of Homeland Security

FR—Federal Register

NPRM—Notice of Proposed Rulemaking

§ —Section Symbol

U.S.C.—United States Code

A. Regulatory History and Information

On December 30, 2014, we published a notice of proposed rulemaking (NPRM) entitled, “Drawbridge Operation Regulation; Mantua Creek, Paulsboro, NJ” in the Federal Register (79 FR 78365). We received no comments on the proposed rule. No public meeting was requested, and none was held.

B. Basis and Purpose

The bridge owner, Conrail, requested a change to 33 CFR 117.729 (a) due to the replacement of the existing bridge structure. Conrail also requested to modify the operating regulations due to their intent to install sensor equipment as part of the reconstruction efforts for their bridge across Mantua Creek. This rule will change three aspects of the bridge operation. Specifically, the regulations will enable (1) remote operation of the bridge, (2) installation of cameras and infrared sensors to verify whether any vessels are transiting the waterway before a bridge closure is initiated, and (3) alter the requirement for signals to be used during drawbridge movement operations. This rule will not change the operating schedule of the bridge. The original structure for the bridge at mile marker 1.4 across Mantua Creek was an A-Frame swing bridge with unlimited vertical clearance in the open position. This swing bridge is being replaced by a vertical lift bridge with a 25-foot vertical clearance in the open position. The horizontal clearance for the swing bridge was 32 feet. The vertical lift bridge will have a horizontal clearance of 44 feet.

The scope of the waterway inspection is different between the current on-site train crewmember inspection process and the range of the camera installation. There is also a difference in the time it takes between the inspection and the initiation of the bridge closure operations. Currently, the regulation requires an on-site train crewmember to conduct an inspection of the waterway for vessels by stopping the train approximately 150 feet north of the bridge site when approached from the north or 150 feet south of the bridge site when approached from the south. Once the train is stopped, the train crewmember walks to the bridge site and physically looks up and down the channel. The time it takes to stop the train, walk to the bridge, conduct the inspection, walk back to the train, and re-start the train takes 5-10 minutes. This rule allows the remote operating station to inspect the waterway with cameras without first stopping the train which permits a more efficient operating system.

The closer the vessels are to the bridge, the more likely it is that the train crewmember will see them using the process required by the current regulation. Under this rule, the camera inspection of the waterway has the capability to zoom up and down stream allowing for easier detection of a smaller vessel approaching the bridge. After inspection of the waterway, using the cameras, the bridge closing operations would then occur from a remote location at the Mt. Laurel remote operating station.

Currently, the bridge is designed to be operated by the train crew. Under this rule Conrail will operate the Mantua Creek Bridge at mile 1.4 from a remote location, the Conrail Mt. Laurel, NJ, remote operating station, at all times. A draw tender may be stationed at the bridge at various times when it is deemed necessary for safety purposes such as during times when bridge maintenance is being performed.

Conrail operates other bridges at the Mt. Laurel, NJ remote operating station. The change from on-site control of the bridge to the Mt. Laurel, NJ operating station enables Conrail to consolidate its control of the train line and Mantua Creek bridge. By controlling the track as well as the bridge operating mechanism at the Mt. Laurel station, the remote operator has access to more information regarding the anticipated arrival time for when the trains will be at the bridge site. Information such as train speed and location directly contribute to when the bridge will need to be closed. This change to a remote operating station may shorten the duration of the bridge closures due to the higher accuracy of information on train speed and anticipated arrival time at the bridge site.

The depth of Mantua Creek at the bridge is 22 feet. The diurnal tidal range is 6 feet. Mantua Creek is used by several recreational vessels during the summer boating season. There is no commercial vessel traffic on Mantua Creek.

From March through November, the bridge is in the open to navigation position and will only be lowered for the passage of train and maintenance. Train activity in this location requires the bridge to close to navigation up to eight times a day Monday thru Friday. On Saturday and Sunday, the bridge is closed up to six times each day.

From December through the end of February, the bridge is in the closed to navigation position but will open if 4 hours notice is given.

Conrail will also specify the dates when the bridge will be left in the open to navigation position from March 1 through November 30 and left in the closed to navigation position from December 1 through the last day of February. This represents a clarification of the existing regulatory language, and not a substantive change to the existing bridge schedule.

C. Discussion of Comments, Changes and the Final Rule

The Coast Guard provided a comment period of 45 days and no comments were received, therefore, no changes were made.

Under this rule, the responsibility to operate the drawbridge is being removed from the train crew and being transferred to the remote operating station located in Mt. Laurel, NJ. The visual examination of the waterway to confirm whether or not any vessels are present will shift from the train crew to the Mt. Laurel remote operating station. The train crew will not be required to stop and check the waterway prior to the remote operating station closing or opening the bridge. Cameras and sensors will be used to confirm whether any vessels are navigating Mantua Creek near the CONRAIL Bridge prior to closing the bridge.

From the controls at the Mt. Laurel remote operating station, the timeframe to initiate the bridge closure is not more than 15 minutes before a train will arrive at the bridge location. The system currently in place using local control of the operating mechanism works under a similar timeframe. At the Mt. Laurel remote operating station, the cameras and sensors will be used continuously during the bridge closure operations to monitor the waterway for the presence of vessels.

With the limit of 25 feet of vertical clearance in the open position, the movement of the bridge impacts vessels transiting the waterway. Signals alerting any vessels on Mantua Creek about this movement are being modified to reflect the operating process of a new vertical lift bridge. The bridge will use flashing red lights along with sounding the horn to notify waterway users that the bridge is changing position. The current regulation requires a flashing red light, one prolonged blast, one short blast, and an audio voice announcement to indicate the bridge is opening. The new regulation states that the light will change from fixed green to flashing red any time the bridge is not in the full open position. Prior to bridge movement, there will be two prolonged blasts followed by two short blasts. This rule removes the audio voice announcement.

The drawbridge operation schedule will not change under the Final Rule. However, Conrail will specify the dates when the bridge will be left in the open to navigation position from March 1 through November 30 and left in the closed to navigation position from December 1 through the last day of February. This represents a clarification of the existing regulatory language, and not a substantive change to the existing bridge schedule.

D. Regulatory Analyses

We developed this rule after considering numerous statutes and executive orders related to rulemaking. Below we summarize our analyses based on these statutes or executive orders.

1. Regulatory Planning and Review

This rule is not a “significant regulatory action” under section 3(f) of Executive Order 12866, Regulatory Planning and Review, as supplemented by Executive Order 13563, Improving Regulation and Regulatory Review, and does not require an assessment of potential costs and benefits under section 6(a)(3) of Order 12866 or under section 1 of Executive Order 13563. The Office of Management and Budget has not reviewed it under those Orders. The changes in this rule impact the methods used to operate the drawbridge. There are no changes to the drawbridge operating schedule.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

This action will not have a significant economic impact on a substantial number of small entities for the following reasons. There are no changes proposed to the drawbridge operating schedule. Vessels that can safely transit under the bridge may do so at any time. The vertical clearance of 25 feet is consistent with other approved bridges on Mantua Creek.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule would call for no new collection of information under the Paperwork Reduction Act of 1995 (44 U.S.C. 3501-3520.).

5. Federalism

A rule has implications for federalism under Executive Order 13132, Federalism, if it has a substantial direct effect on the States, on the relationship between the national government and the States, or on the distribution of power and responsibilities among the various levels of government. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule would not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guides the Coast Guard in complying with the National Environmental Policy Act of 1969 (NEPA) (42 U.S.C. 4321-4370f), and have concluded that this action is one of a category of actions which do not individually or cumulatively have a significant effect on the human environment. This rule promulgates the operating regulations or procedures for drawbridges. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. Revise § 117.729(a) to read as follows:

§ 117.729 Mantua Creek.

(a) The draw of the Conrail automated railroad bridge, mile 1.4, at Paulsboro, NJ shall operate as follows:

(1) The bridge will be operated remotely by the South Jersey Train Dispatcher located in Mt. Laurel, NJ. Operational information will be provided 24 hours a day by telephone at (856) 231-2282.

(2) From March 1 through November 30, the draw shall be left in the open position and will only be lowered for the passage of trains and to perform periodic maintenance authorized in accordance with subpart A of this part.

(3) From December 1 through the last day of February, the draw will open on signal if at least 4 hours notice is given by telephone at (856) 231-2282.

(4) The timeframe to initiate the bridge closure will be not more than 15 minutes before a train will arrive at the bridge location. If a train moving toward the bridge has crossed the home signal for the bridge, the train may continue across the bridge and must clear the bridge prior to stopping for any reason. Trains shall be controlled so that any delay in opening of the draw shall not exceed ten minutes except as provided in § 117.31(b).

(5) The bridge will be equipped with cameras and channel sensors to visually and electronically ensure the waterway is clear before the bridge closes. The video and sensors are located and monitored at the remote operating location in Mt. Laurel, NJ. The channel sensors signal will be a direct input to the bridge control system. In the event of failure or obstruction of the infrared channel sensors, the bridge will automatically stop closing and the South Jersey Train Dispatcher will return the bridge to the open position. In the event of video failure the bridge will remain in the full open position.

(6) The Conrail Railroad center span light will change from fixed green to flashing red anytime the bridge is not in the full open position.

(7) Prior to downward movement of the span, the horn will sound two prolonged blasts, followed by a pause, and then two short blasts until the bridge is seated and locked down. At the time of movement, the center span light will change from fixed green to flashing red and remain flashing until the bridge has returned to its full open position.

(8) When the train controller at Mt. Laurel has verified that rail traffic has cleared, they will sound the horn five times to signal the draw is about to return to its full open position.

(9) During upward movement of the span, the horn will sound two prolonged blasts, followed by a pause, and then sound two short blasts until the bridge is in the full open position. The center span light will continue to flash red until the bridge is in the fully open position.

(10) When the draw cannot be operated from the remote site, a bridge tender must be called to operate the bridge in the traditional manner. Personnel shall be dispatched to arrive at the bridge as soon as possible, but not more than one hour after malfunction or disability of the remote system.

* * * * *

Dated: April 3, 2015.
Stephen P. Metruck,
Rear Admiral, United States Coast Guard, Commander, Fifth Coast Guard District.

[FR Doc. 2015-09038 Filed 4-20-15; 8:45 am]

BILLING CODE 9110-04-P